DEPARTMENT OF TRANSPORTATION

Federal Aviation Administration

Fifth Meeting: RTCA Special Committee 210, Cabin Systems and Equipment

AGENCY: Federal Aviation Administration (FAA), DOT.

ACTION: Notice of RTCA Special Committee 210, Cabin Management System.

SUMMARY: The FAA is issuing this notice to advise the public of a meeting of RTCA Special Committee 210, Cabin Management.

DATES: The meeting will be held January 29-31, 2008, from 9 a.m.-5 p.m.

ADDRESSES: The meeting will be held at RTCA, Inc., 1828 L Street, NW., Suite 805, Washington, DC 20036, ARINC, Colson & Garmin Rooms.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C. appendix 2), notice is hereby given for a Special Committee 210, Cabin Management Systems meeting. The agenda will include:

• January 29:

• Opening Plenary Session (Welcome, Introductions, and Administrative Remarks)

• Approval of Summary of the Fourth meeting held October 23-25, 2007. RTCA Paper No. 285-07/SC210-009 (Chair)

• PMC update (RTCA)

• Regulatory Update (Regulatory Agency):

• FAA

• Transport Canada

• EUROCAE/ICAO

• Reports from Working Groups (WG Chairs)

• Current status (accomplishments since last plenary)—Expect WG-3 to be complete and members to join WG-2

• Objectives for this plenary

• Review of WG Project Schedule

• Overall direction for Working Group (Chair)

• Organizational Items; leadership, WG structure, etc.

• Review of Committee Project Schedule

• Close Plenary Meeting

• Break-up for Specific Working Group Sessions

• Working Group 2, Cabin Management Function Classification

• Close out of day's activities

• Item for group discussion/resolution

• Review of tomorrow's activities

• January 30:

• Continue Specific Working Group Session

• Working Group 2, Cabin Management Function Classification

• Closeout of day's activities

• Items for group discussion/resolution

• Review of tomorrow's activities

• January 31:

• Continue Specific Working Group Sessions

• Working Group 2, Cabin Management Function Classification

• Convene to Continue Plenary Meeting

• Reports from Working Group Chairs

• Current status (accomplishments during plenary)

• Discussion/Resolution of outstanding issues

• Anticipated accomplishments by next plenary and plan to achieve

• Other Committee Business

• Discussion of documents creation and text writing assignments

• Document Structure/Review (Editor and Leadership Team)

• Review of Committee Project Schedule

• Terms of Reference—Review Status

• Assignment of Responsibilities

• Closing Plenary Session (Other Business, Establish Agenda for Next Meeting, Date, and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 16, 2008.
Francisco Estrada C.,
RTCA Advisory Committee.

[FR Doc. 08-320 Filed 1-25-08; 8:45 am]

BILLING CODE 4910-13-M